DEPARTMENT OF HEALTH AND HUMAN SERVICES

Centers for Disease Control and Prevention

Disease, Disability, and Injury Prevention and Control Special Emphasis Panel: Workplace Violence Prevention Research, Announcement Number: OH-02-011

In accordance with section 10(a)(2) of the Federal Advisory Committee Act (Pub. L. 92-463), the Centers for Disease Control and Prevention (CDC) announces the following meeting:

Name: Disease, Disability, and Injury Prevention and Control Special Emphasis Panel (SEP): Workplace Violence Prevention Research, RFA OH-02-011.

Times and Dates:

8:30 a.m.-9 a.m., August 21, 2002 (Open),

9:10 a.m.-5:30 p.m., August 21, 2002 (Closed),

8:30 a.m.-5:30 p.m., August 22, 2002 (Closed).

Place: Harbor Court Hotel, 550 Light Street, Baltimore, MD 21202 phone (1-800-824-0076 or 410-347-9700).

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of applications received in response to RFA OH-02-011.

Contact Person for More Information: Gwendolyn Cattledge, Ph.D., Scientific Review Administrator, National Institute for Occupational Safety and Health, CDC, 1600 Clifton Road NE MS E-74, Atlanta, GA 30330, telephone (404) 498-2508.

The Director, Management Analysis and Services Office has been delegated the authority to sign Federal Register notices pertaining to announcements of meetings and other committee management activities, for both the Centers for Disease Control and Prevention and the Agency for Toxic Substances and Disease Registry.

Dated: August 1, 2002.
John Burkchardt,
Acting Director, Management Analysis and Services Office, Centers for Disease Control and Prevention (CDC).

[FR Doc. 02-19898 Filed 8-2-02; 10:57 am]

BILLING CODE 4163-19-P